ENVIRONMENTAL PROTECTION AGENCY

40 CFR Part 52

[IL165-2; FRL-6943-2]

Approval and Promulgation of Implementation Plans; Illinois Trading Program; Reopening of the Public Comment Period

AGENCY: Environmental Protection Agency (USEPA).

ACTION: Proposed rule; reopening of the public comment period.

SUMMARY: USEPA is reopening and extending the public comment period for a proposed rule published on December 27, 2000 (65 FR 81799). In the December 27, 2000 proposed rule, USEPA proposed to approve Illinois' emissions trading program provided Illinois resolves certain issues prior to the end of the public comment period. Specifically, USEPA proposed that Illinois must: Clarify the timeline and penalties for violating sources, satisfy USEPA's policy on environmental justice, provide for full-year offsets for new sources, commit to discount credits where emissions reductions are potentially accompanied by emission increases elsewhere, and commit to remedy any problems identified in its periodic program review. USEPA solicited public comment on Illinois' proposed trading program and on USEPA's proposed action. At the request of several environmental groups, USEPA is reopening the comment period through March 26, 2001. All comments received before March 26, 2001, including those received between the close of the comment period on January 26, 2001 and the publication of this proposed rule reopening the comment period, will be entered into the public record and considered by USEPA before taking final action on the proposed rule.

DATES: Comments must be received on or before March 26, 2001.

ADDRESSES: Written comments should be addressed to: J. Elmer Bortzer, Chief, Regulation Development Section (AR-18J), United States Environmental Protection Agency, 77 West Jackson Boulevard, Chicago, Illinois 60604.

FOR FURTHER INFORMATION CONTACT: John Summerhays, Regulation Development Section, Air Programs Branch (AR-18J), United States Environmental Protection Agency, 77 West Jackson Boulevard, Chicago, Illinois 60604, (312) 886-6067, (summerhays.john@epa.gov).

Dated: January 31, 2001.
David A. Ullrich,
Acting Regional Administrator, Region 5.

[FR Doc. 01-3282 Filed 2-7-01; 8:45 am]

BILLING CODE 6560-50-P